DEPARTMENT OF AGRICULTURE

Forest Service

Proposed Recreation Fee Sites

AGENCY: Forest Service, Agriculture (USDA).

ACTION: Notice.

SUMMARY: The Francis Marion and Sumter National Forests are proposing to establish several recreation fee sites. Recreation fee revenues collected at the proposed recreation fee sites would be used for operation, maintenance, and improvement of the sites. An analysis of nearby recreation fee sites with similar amenities shows the proposed recreation fees that would be charged at the proposed recreation fee sites are reasonable and typical of similar recreation fee sites in the area.

DATES: If approved, the proposed recreation fees and proposed recreation fee sites would be established no earlier than six months following the publication of this notice in the Federal Register.

ADDRESSES: Francis Marion and Sumter National Forests, 4931 Broad River Road, Columbia, South Carolina 29212.

FOR FURTHER INFORMATION CONTACT: JaSal Morris, Forest Supervisor, (803) 561-4000 or Andrew.Holliday@usda.gov.

SUPPLEMENTARY INFORMATION: The Federal Lands Recreation Enhancement Act (16 U.S.C. 6803(b)) requires the Forest Service to publish a six-month advance notice in the Federal Register of establishment of recreation fee sites. In accordance with Forest Service Handbook 2309.13, Chapter 30, the Forest Service will publish the proposed recreation fee sites and proposed recreation fees in local newspapers and other local publications for public comment. Most of the proposed recreation fees would be spent where they are collected to enhance the visitor experience at the proposed recreation fee sites.

A proposed expanded amenity recreation fee of $35 per day for groups up to 40 people would be charged for Chattooga and Yellow Branch group picnic sites.

Expenditures of proposed recreation fees collected at the proposed recreation fee sites would enhance recreation opportunities, improve customer service, and address maintenance needs. Once public involvement is complete, these proposed recreation fee sites and proposed recreation fees will be reviewed by a Recreation Resource Advisory Committee prior to a final decision and implementation. Reservations for campgrounds and cabins could be made online at www.recreation.gov or by calling 877-444-6777. Reservations would cost $8.00 per reservation.

Dated: May 31, 2024.
Jacqueline Emanuel,
Associate Deputy Chief, National Forest System.

[FR Doc. 2024-12420 Filed 6-5-24; 8:45 am]

BILLING CODE 3411-15-P